ENVIRONMENTAL PROTECTION AGENCY

[FRL-7131-4]

EPA Science Advisory Board; Notification of a Public Advisory Committee Meeting

Pursuant to the Federal Advisory Committee Act, Public Law 92-463, notice is hereby given that a Subcommittee of the US EPA Science Advisory Board (SAB) (the Surface Impoundments Study Subcommittee of the SAB's Environmental Engineering Committee) will conduct a public teleconference meeting on February 1, 2002 from 12 pm to 2 pm. The meeting will be coordinated through a conference call connection in Room 6450C in the USEPA, Ariel Rios Building North, 1200 Pennsylvania Avenue, NW, Washington, DC 20004. The public is encouraged to attend the meeting in the conference room noted above, however, the public may also attend through a telephonic link if lines are available. Additional instructions about how to participate in the conference call can be obtained by calling Ms. Mary Winston at (202) 564-4538, or via e-mail at winston.mary@epa.gov. Important Notice: Documents that are the subject of SAB reviews are normally available from the originating EPA office and are not available from the SAB Office—information concerning availability of documents from the relevant Program Office is included below.

Purpose of the Meeting—The primary purpose of this meeting will be to finalize and approve the Subcommittee's report on its review of Industrial Surface Impoundments in the United States for the Office of Solid Waste as announced in Federal Register notices 66 FR 30917-30920 June 8, 2001 and 66 FR 9671-49672 September 28, 2001. Final approval of this report will be accomplished during a public review meeting of the US EPA Science Advisory Board (SAB) at a later date (to be announced in the FR).

Availability of Review Materials: The availability of Industrial Surface Impoundments in the United States was announced previously in the FRs cited above. The January draft of Subcommittee report will be available in mid-January. Those wishing a copy of the draft report should contact the DFO, preferably by email (see contact information in following paragraph) on or about January 14.

For Further Information—Any member of the public wishing further information concerning this meeting or wishing to submit brief oral comments (3 minutes or less) must contact Ms. Kathleen White, Designated Federal Officer, EPA Science Advisory Board (1400A), U.S. Environmental Protection Agency, 1200 Pennsylvania Avenue NW, Washington, DC 20460; telephone (202) 564-4559; FAX (202) 501-0582; or via e-mail at white.kathleen@epa.gov. Requests for oral comments must be in writing (e-mail, fax or mail) and received by Ms. White no later than noon Eastern Time on Tuesday January 29, 2002.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. White at least five business days prior to the meeting so that appropriate arrangements can be made.

Dated: January 16, 2002.
A. Robert Flaak,
Acting Staff Director, EPA Science Advisory Board.

[FR Doc. 02-1481 Filed 1-17-02; 8:45 am]

BILLING CODE 6560-50-P